DEPARTMENT OF TRANSPORTATION

Federal Railroad Administration

49 CFR Part 219

[FRA Docket No. 2001-11213, Notice 2]

RIN 2130-AA81

Alcohol and Drug Testing: Determination of Minimum Random Testing Rates for 2002; Corrections

AGENCY: Federal Railroad Administration (FRA), DOT.

ACTION: Notice of determination; corrections.

SUMMARY: FRA published a document in the Federal Register of January 2, 2002, setting the minimum random drug and alcohol testing rates for calendar year 2002. The testing rates are based on the rail industry's overall positive rate, which is determined using annual railroad drug and alcohol program data taken from FRA's Management Information System. Although the original notice correctly set the minimum random testing rates, the overall positive rates for drug testing and alcohol testing were inadvertently transposed. This document corrects the error.

DATES: This correction is effective January 2, 2002.

FOR FURTHER INFORMATION CONTACT: Lamar Allen, Alcohol and Drug Program Manager, Office of Safety Enforcement, Mail Stop 25, FRA, 1120 Vermont Avenue, NW, Washington, DC 20005 (Telephone: (202) 493-6313).

Corrections

In the Federal Register issue of January 2, 2002, in FR Doc. 01-32047, two sentences need correcting. On page 21, in the third column, correct the first sentence of the SUMMARY caption to read:

Using data from Management Information System annual reports, FRA has determined that the calendar year 2000 rail industry random testing positive rate was .79 percent for drugs and .20 percent for alcohol.

On page 22, correct the last sentence in the first column that runs over into the second column, in the SUPPLEMENTARY INFORMATION caption to read:

In this notice, FRA announces that the minimum random drug testing rate will remain at 25 percent of covered railroad employees for the period January 1, 2002 through December 31, 2002, since the industry random drug testing positive rate for 2001 was .79 percent.

Dated: January 3, 2002.
George A. Gavalla,
Associate Administrator for Safety.

[FR Doc. 02-559 Filed 1-8-02; 8:45 am]

BILLING CODE 4910-06-P